COMMITTEE FOR PURCHASE FROM PEOPLE WHO ARE BLIND OR SEVERELY DISABLED

Procurement List; Additions and Deletion

AGENCY: Committee for Purchase From People Who Are Blind or Severely Disabled.

ACTION: Additions to and deletion from the procurement list.

SUMMARY: This action adds to the Procurement List commodities and services to be furnished by nonprofit agencies employing persons who are blind or have other severe disabilities, and deletes from the Procurement List commodities previously furnished by such agencies.

EFFECTIVE DATE: April 30, 2001.

ADDRESSES: Committee for Purchase From People Who Are Blind or Severely Disabled, Jefferson Plaza 2, Suite 10800, 1421 Jefferson Davis Highway, Arlington, Virginia 22202-3259.

FOR FURTHER INFORMATION CONTACT: Patrick T. Mooney (703) 603-7740

SUPPLEMENTARY INFORMATION: On July 28, September 15, 2000 and January 25, February 2, February 9 and February 16, 2001 the Committee for Purchase From People Who Are Blind or Severely Disabled published notices (65 FR 46426, 55938) and (66 FR 7875, 8776, 9685/9686 and 10664) of proposed additions to and deletion from the Procurement List:

Additions

After consideration of the material presented to it concerning capability of qualified nonprofit agencies to provide the commodity and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are hereby added to the Procurement List:

Commodities

Folder, Classification

7530-00-NIB-0548

7530-00-NIB-0549

7530-00-NIB-0550

7530-00-NIB-0551

7530-00-NIB-0552

7530-00-NIB-0555

7530-00-NIB-0556

7530-00-NIB-0557

Services:

Administrative Services

U.S. Army Space and Missile Defense Command (SMDC), Huntsville, Alabama

Administrative Services for Catalog Distribution

Defense Reutilization and Marketing Service, Battle Creek, Michigan

Food Service Attendant

Air National Guard-Phoenix, 3200 E Old Tower Road, Phoenix, Arizona

Food Service

Naval Air Station, Pensacola, Naval Technical Training Center, Corry Station, Pensacola, Florida

Furnishings Management Services

McGuire Air Force Base, New Jersey

Janitorial/Custodial

FAA Facilities, ARTCC, Guard Shack, ZANNEX Building & ZAN Village, Anchorage, Alaska

Janitorial/Custodial

California Air National Guard, Building 546, Moffett Federal Airfield, California

Janitorial/Custodial

VA Medical Center, Dental Laboratory, Washington, DC

Janitorial/Custodia

>Great Lakes Naval Training Center, Great Lakes, Illinois

Janitorial/Grounds Maintenance

U.S. Army Reserve Center, 1650 Corey Boulevard, Decatur, Georgia

Mailroom and Records Management Services

U.S. Army Corps of Engineers, Jacksonville, Florida

This action does not affect current contracts awarded prior to the effective date of this addition or options that may be exercised under those contracts.

Deletion

I certify that the following action will not have a significant impact on a substantial number of small entities. The major factors considered for this certification were:

1. The action will not result in any additional reporting, recordkeeping or other compliance requirements for small entities.

2. The action will not have a severe economic impact on future contractors for the commodities.

3. The action will result in authorizing small entities to furnish the commodities to the government.

4. There are no known regulatory alternatives which would accomplish the objectives of the Javits-Wagner-O'Day Act (41 U.S.C. 46—48c) in connection with the commodities deleted from the Procurement List.

After consideration of the relevant matter presented, the Committee has determined that the commodities listed below is no longer suitable for procurement by the Federal Government under 41 U.S.C. 46-48c and 41 CFR 51-2.4. Accordingly, the following commodities are hereby deleted from the Procurement List:

Commodities

Stepladder

5440-00-

514-4483

5440-00-514-4485

5440-00-514-4487

Patrick T. Mooney,
Director, Pricing and Program Operations.

[FR Doc. 01-7907 Filed 3-29-01; 8:45 am]

BILLING CODE 6353-01-P